INTERNATIONAL TRADE COMMISSION

[Investigation No. 337-TA-1328]

Certain Pillows and Seat Cushions, Components Thereof, and Packaging Thereof; Notice of Institution of Investigation

AGENCY: U.S. International Trade Commission.

ACTION: Notice.

SUMMARY: Notice is hereby given that a complaint was filed with the U.S. International Trade Commission on August 5, 2022, under section 337 of the Tariff Act of 1930, as amended, on behalf of Purple Innovation, LLC of Lehi, Utah. Supplements to the complaint were filed on August 9, 2022 and August 22, 2022. The complaint, as supplemented, alleges violations of section 337 based upon the importation into the United States, the sale for importation, and the sale within the United States after importation of certain pillows and seat cushions, components thereof, and packaging thereof by reason of the infringement of: (1) certain claims of U.S. Design Patent No. D909,092 (“the '092 patent”); U.S. Patent No. 10,772,445 (“the '445 patent”); and U.S. Patent No. 10,863,837 (“the '837 patent”); (2) U.S. Trademark Registration No. 5,661,556 (“the '556 mark”) and U.S. Trademark Registration No. 6,551,053 (“the '053 mark”) and that an industry in the United States exists as required by the applicable Federal Statute. The complaint further alleges violations of section 337 based upon the importation into the United States, or in the sale of certain pillows and seat cushions, components thereof, and packaging thereof by reason of trade dress infringement, the threat or effect of which is to destroy or substantially injure an industry in the United States. The complainant requests that the Commission institute an investigation and, after the investigation, issue a limited and a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2022).

Scope of Investigation: Having considered the complaint, the U.S. International Trade Commission, on September 6, 2022, ordered that—

(1) Pursuant to subsection (b) of section 337 of the Tariff Act of 1930, as amended,

(a) an investigation be instituted to determine whether there is a violation of subsection (a)(1)(A) of section 337 in the importation into the United States, or the sale of certain products identified in paragraph (2) by reason of trade dress infringement, the threat or effect of which is to destroy or substantially injure an industry in the United States;

(b) an investigation be instituted to determine whether there is a violation of subsection (a)(1)(B) of section 337 in the importation into the United States, the sale for importation, or the sale within the United States after importation of certain products identified in paragraph (2) by reason of infringement of one or more of claims 1-16, 18, 19, 21-33, and 35 of the '445 patent; claims 1-4, 6, 10-12, 19, and 20 of the '837 patent; and the sole claim of the '092 patent, and whether an industry in the United States exists as required by subsection (a)(2) of section 337;

(c) an investigation be instituted to determine whether there is a violation of subsection (a)(1)(C) of section 337 in the importation into the United States, the sale for importation, or the sale within the United States after importation of certain products identified in paragraph (2) by reason of infringement of the '556 mark and the '053 mark, and whether an industry in the United States exists as required by subsection (a)(2) of section 337;

(2) Pursuant to section 210.10(b)(1) of the Commission's Rules of Practice and Procedure, 19 CFR 210.10(b)(1), the plain language description of the accused products or category of accused products, which defines the scope of the investigation, is “certain pillows and seat cushions, and components thereof (pillow cushions inside pillows having provided pillow cases), wherein at least a material portion of the pillow cushions or seat cushions are made of purple elastomer material generally formed in a repetitive grid-like pattern, as well as packaging thereof”;

(3) For the purpose of the investigation so instituted, the following are hereby named as parties upon which this notice of investigation shall be served:

(a) The complainant is:

Purple Innovation, LLC, 4100 North Chapel Ridge Road, Suite 200, Lehi, Utah 84043

(b) The respondents are the following entities alleged to be in violation of section 337, and are the parties upon which the complaint is to be served:

Bedmate-U Co., Ltd., 123, Sindae-gil, Gonjiam-eup, Gwangju-si, Gyeonggi-do, Republic of Korea 12801

Chuang Fan Handicraft Co., Ltd., 598 Zhengsong Avenue, Wanquan, Pingyang Wenzhou, Zhejiang, China 325409

Dongguan Bounce Technology Co., Ltd., No. 10, Development Road, Mowu Village, Qishi Town, Dongguan, Guangdong, China

Dongguan Jingrui Silicone Technology Co., Ltd., 2-5-301, Niushan Ind. Road, Dongcheng Street, Dongguan, Guangdong, China 523128

Foshan Dirani Design Furniture Co., Ltd., RA-3-026A, 3rd Floor, Bldg. A, Jiabocheng No. 189, Middle Foshan Avenue, Foshan, Guangdong, China 528000

Global Ocean Trading Co. Ltd., Room 201, 2nd Floor, No. 1 Renmin North Road, Longjiang Community, Longjiang Town, Shunde, Foshan, Guangdong, China 528318

Guang An Shi Lin Chen Zai Sheng Wuzi Co., Ltd., No. 752, Xianzhu Road, Xianyan Street, Ouhai, Wenzhou, Zhejiang, China 325000

Guang Zhou Wen Jie Shang Mao Youxian Gongsi Co., Ltd., Room 102, No. 15, Lane 111, Yusheng Road, Chenjia, Chongming, Shanghai, China 202162

Guangzhou Epsilon Import and Export Co., Ltd., Room 231, 2/F, Building 10, No. 1, Erheng Road, West District Hebian Tongda Creative Park, Helong Street, Guangzhou, Guangdong, China 510000

Guangzhoushi Baixiangguo Keji Youxian Gongsi Co., Ltd., Fengze Dong Lu 106 Hao, Zi Bian 1 Hao Lou, X1301-B5235, Nansha, Guangzhou, Guangdong, China 511458

Haircrafters LLC, 7022 Shallowford Road, Suite 1, Unit #532, Chattanooga, TN 37421-6714

Hangzhou Lishang Import & Export Co., Ltd., Room 423, South District, Zhejiang Newspaper Printing, No. 38 Xiangyuan Road, Gongshu, Hangzhou, Zhejiang, China 310015

Hangzhou Lydia Sports Goods Co., Ltd., Rooms 201 and 202, Building 1, Jinjishan, Village, Suoqian Town, Xiaoshanm, Hangzhou, Zhejiang, China 312000

Hebei Zeyong Technology Co., Ltd., North End of Fuqiang Road, Dahu Jingguan, Pengdu Township, Binhu New Area, Hengshui, Hebei, China 053000

Henson Holdings, LLC d.b.a. SelectSoma, 112 Tucson Drive, Lafayette, Louisiana 70503

Hetaibao, Hua Ji Zhen, He Lou Xing, Zheng Cun, He, Lou 1-1 Hao, Linquan, Anhui, China 236400

Hubei Sheng Bingyi Dianzi Keji Youxian Gongsi Co. Ltd., Jiuyuhuangcheng, 6 Zhuang, 3 Danyuan, 603 Shi, Xiannvshan Jiedao Tiyuguanlu 288, Hao, Xiaogan, Hanchuan, Hubei, China 431699

Kaifeng Shi Long Ting Qu Chen Yi, Shangmao Youxian Gongsi Co., Ltd., Room 2002, Unit 2, Building 10, Phase 3, Shenghua City, Fuxing Avenue, Longting, Kaifeng, Henan, China 475000

Lankao Junchang Electronic Commerce Co., Ltd., Daonan New Street, Lankao, Kaifeng, Henan, China

Lei Lei Wang, No. 33, Hou Xiegou, Xiegou Administrative Village, Tupi Township, Fuyang, Linquan, Anhui, China 236400

Liu Lin Xian Xu Bin Dian Zi Chan Pin Dian, Pingtou Village, Sanjiao, Luliang, Liulin, Shanxi, China 033300

Nanchang Shirong Bao Er Guanggao Youxian Gongsi Co., Ltd., 3399 Ziyang Avenue, Room 2-035, Underground Commercial Plaza, Building B, Cloud City, Nanchang High-Tech Industrial Development Zone, Nanchang, Jiangxi, China 330096

Ningbo Bolian Import & Export Co., Ltd., 2-3-8, No. 326 Qianhu Avenue, Dongqian Lake Tourist Resort Zone, Ningbo, Zhejiang, China 315121

Ningbo Minzhou Import & Export Co., Ltd., Room 4697, Building No. 3, Lane 3, Xijing Road, Shijingshan District, Airport Road No. 5000, Shiqi Street, Haishu, Beijing, China 100043

Ruian Xiu Yuan Guoji MaoYi Youxian Gongsi Co., Ltd., Luofeng, Bashuicun Kangweilu 2 Hao, Tangxia, Ruian, Wenzhou, Zhejiang, China 325000

Shandong Jiu Hui Xinxi Keji Youxian Gongsi Co., Ltd., 112 Jiefang Road, Chia Tai Times 1204, Lixia, Jinan, Shangdong, China 250000

Shanxi Chao Ma Xun Keji Youxian Gongsi Co., Ltd., Tonggang Road, Chengbei Xinjing, Community Building 1, Building 2, Unit 17B, Xinfu, Xinzhou, Shanxi, China 034000

Shenzhen Baibaikang Technology Co., Ltd., 6B03, West Plant, Floor 6, 2, Guangxian Plot, Bagua 3rd Road, Yuanling Street, Shenzhen, Guangdong, China 518029

Shenzhen Leadfar Industry Co., Ltd., 73-E Shatian North Road, Shatian, Kengzi, Pingshan, Shenzhen, Guangdong, China 518122

Shenzhen Shi Mai Rui Ke Dianzi Shangwu Co. Ltd., Matian Street, Xinzhuang Community, Songbai Road and South Ring Road Intersection, Yitian Holiday House 1, Unit A 1405, Shenzhen, Guangdong, China 518106

Shenzhen Shi Xin Shangpin Dianzi Shangwu Youxian Gongsi Co., Ltd., Mingkang Road, Zhangkeng District 2, 58 Building 1178, Longhua, Shenzhen, Guangdong, China 518131

Shenzhen Shi Yan Huang Chu Hai Keji Youxian Gongsi Co., Ltd., Minzhi Street, Room 701, Building 25, Shahu Old Village, Longhua, Shenzhen, Guangdong, China 518000

Shenzhen Shi Yuxiang Meirong Yongju, Youxian Gongsi Co. Ltd. 2801 B Zuo, Jingjiyujingyinxiang Er Qi, 5, Hao Niuchanglu, Pinghuan Shequ, Maluan Jiedao, Pingshan, Shenzhen, Guangdong, China 518118

Shenzhen Tianrun Material Co., Ltd., 307, No. 2, Baoyuan 2nd District, Labor Community, Xixiang Street, Shenzhen, Guangdong, China 518000

Wuhan Chenkuxuan Technology Co., Ltd., F6, Building 1, SAGE Jishukaifa Center, 26 Binhu Road, E. Lake Xin Ji Shu Kai Fa Qu, Wuhan, Hubei, China 430040

Xiao Dawei, Room 402, 4th Floor, No.137, Tongan Park, Industrial Concentration Zone, Tong'an, Xiamen, Fujian, China 361199

Xiao Xiao Pi Fa Shang Mao You Xian Ze Ren Gongsi Co., Row 40, Magnetic Kilns, Ningxiang, Zhongyang, Luliang, Shanxi, China 033400

YaRu Wang, No. 3, Southwest Gate Street, Renyan Village, Jicun, Fenyang, Luliang, Shanxi, China 032200

Yiwu Youru E-commerce Co., Ltd., Dong Da Lu 39, Building One, Jubao Road, Choujiang Street, Yiwu, Jinhua, Zhejiang, China 322000

Zhejiang Xinhui Import & Export Co., Ltd., No. 148, Xiazhuangli Bingjiang, Hangzhou, Zhejiang, China 310052

Zhou Meng Bo, 618, Building 380, Shayuanpu Building, Minzhi, Longhua, Shenzhen, Guangdong, China 51831

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 7, 2022.
Katherine Hiner,
Acting Secretary to the Commission.

[FR Doc. 2022-19658 Filed 9-12-22; 8:45 am]

BILLING CODE 7020-02-P